DEPARTMENT OF TRANSPORTATION

Federal Aviation Administration

14 CFR Part 39

[Docket No. 2000-CE-02-AD]

RIN 2120-AA64

Airworthiness Directives; Raytheon Aircraft Company Beech Models 1900C, 1900C (C-12J), and 1900D Airplanes

AGENCY: Federal Aviation Administration, DOT.

ACTION: Notice of proposed rulemaking (NPRM).

SUMMARY: This document proposes to adopt a new airworthiness directive (AD) that would apply to certain Raytheon Aircraft Company (Raytheon) Beech Models 1900C, 1900C (C-12J), and 1900D airplanes. The proposed AD would require you to install a spiral wrap around the wing fuel quantity wiring harness and apply an adhesive sealant to the Wiggins couplings on the internal fuel tank wiring carry-through conduit. The proposed AD results from reports of chafed or shorted wing fuel quantity harness wires on the affected airplanes. These occurrences were found during regular maintenance inspections. The actions specified by the proposed AD are intended to:

—prevent chafing between the wing fuel quantity wiring harness and the internal wing harness supports at each wing rib location, which could cause the fuel quantity indication to become unreliable. This could leave the flight crew without an indication of the amount of fuel the airplane has during flight; and

—prevent fuel from leaking through the wiring carry-through conduit and into the wing tip or wheel well area, which could lead to a fire or explosion.

DATES: The Federal Aviation Administration (FAA) must receive any comments on this rule on or before May 19, 2000.

ADDRESSES: Submit comments in triplicate to FAA, Central Region, Office of the Regional Counsel, Attention: Rules Docket No. 2000-CE-02-AD, 901 Locust, Room 506, Kansas City, Missouri 64106.

You may get the service information referenced in the proposed AD from the Raytheon Aircraft Company, PO Box 85, Wichita, Kansas 67201-0085; telephone: (800) 625-7043 or (316) 676-4556. You may examine this information at the Rules Docket at the address above.

FOR FURTHER INFORMATION CONTACT: Mr. Jeff Pretz, Aerospace Engineer, Wichita Aircraft Certification Office, FAA, 1801 Airport Road, Mid-Continent Airport, Wichita, Kansas 67209; telephone: (316) 946-4153; facsimile: (316) 946-4407.

SUPPLEMENTARY INFORMATION:

Comments Invited

The FAA invites comments on the proposed rule. You may submit whatever written data, views, or arguments you choose. You need to include the rule's docket number and submit your comments in triplicate to the address specified under the caption ADDRESSES. We will consider all comments received on or before the closing date specified above, before taking action on the proposed rule. We may change the proposals contained in this notice in light of the comments received.

The FAA is re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

The FAA specifically invites comments on the overall regulatory, economic, environmental, and energy aspects of the proposed rule that might necessitate a need to modify the proposed rule. You may examine all comments we receive before and after the closing date for comments in the Rules Docket. We will file a report in the Rules Docket that summarizes each FAA contact with the public that concerns the substantive parts of this proposal.

If you want us to acknowledge the receipt of your comments, you must include a self-addressed, stamped postcard. On the postcard, write “Comments to Docket No. 2000-CE-02-AD.” We will date stamp and mail the postcard back to you.

Availability of NPRMs

You may obtain a copy of this NPRM by submitting a written request to FAA, Central Region, Office of the Regional Counsel, Attention: Rules Docket No. 2000-CE-02-AD, 901 Locust, Room 506, Kansas City, Missouri 64106.

Discussion

What events have caused the proposed rule? Several operators of Raytheon Beech Models 1900C and 1900D airplanes have reported chafing of the wing fuel quantity wiring harness against the wing fuel quantity wiring harness supports (located at the wing wiring harness lighting hole mounts). The condition is also conducive to the Model 1900C (C-12J) airplanes.

The lightning hole mounts at each wing rib support the wing fuel quantity wiring harness. The following could occur and cause the above-referenced condition:

—Vibration and fuel movement cause the insulation on the wiring harness to chafe on the tie straps used to secure the harness to the lightning hole mounts; and

—Exposed conductors of the wiring harness could then contact each other and result in an incorrect fuel quantity indication or the indicator reading zero.

In addition to the above condition on the Raytheon Beech Models 1900C, 1900C (C-12J), and 1900D airplanes, the O-rings in Wiggins couplings that join the electrical conduit internal to the wing fuel tanks could leak and allow fuel to enter the conduit. This could result in a fire or explosion.

What are the consequences if the conditions are not corrected? If not corrected in a timely manner, the above-referenced conditions could result in the following:

—Chafing between the wing fuel quantity wiring harness and the internal wing harness supports at each wing rib location could cause the fuel quantity indication to become unreliable. This could leave the flight crew without an indication of the amount of fuel in the airplane during flight; and

—Fuel leaking through the wiring carry-through conduit and into the wing tip or wheel well area could lead to a fire or explosion.

Relevant Service Information

Is there service information that applies to this subject? Yes. Raytheon has issued Mandatory Service Bulletin No. SB 28-3299, Issued: December, 1999.

What are the provisions of this service bulletin? The service bulletin includes procedures for:

—Installing a spiral wrap around the wing fuel quantity wiring harness; and

—Applying an adhesive sealant to the Wiggins couplings on the internal fuel tank wiring carry-through conduit.

The FAA's Determination and an Explanation of the Provisions of the Proposed AD

What has the FAA decided? After examining the circumstances and reviewing all available information related to the incidents described above, including the relevant service information, FAA has determined that:

—An unsafe condition is likely to exist or develop in other Raytheon Beech Models 1900C, 1900C (C-12J), and 1900D airplanes of the same type design;

—The actions of the above-referenced service bulletin should be accomplished on the affected airplanes; and

—AD action should be taken to prevent the above-referenced conditions from occurring.

What would the proposed AD require? The proposed AD would require you to:

—Install a spiral wrap around the wing fuel quantity wiring harness; and

—Apply an adhesive sealant to the Wiggins couplings on the internal fuel tank wiring carry-through conduit.

Compliance Time of This Proposed AD

What is the compliance time of this proposed AD? The compliance time in the proposed AD is whichever of the following that occurs first:

—Within the next 3 months after the effective date of this AD; or

—Within the next 600 hours time-in-service (TIS) after the effective date of this AD.

Why is the compliance time in both calendar time and hours TIS? Chafing damage is a direct result of airplane usage; however, the fuel leakage problem could result regardless of whether the airplane is utilized. Therefore, to assure that both problems are address in a timely manner without inadvertently grounding any of the affected airplanes, we are utilizing a compliance based upon both hours TIS and calendar time.

Cost Impact

How many airplanes does this proposed AD impact? The FAA estimates that 303 airplanes in the U.S. registry would be affected by the proposed AD.

What is the cost impact of the affected airplanes on the U.S. Register? We estimate that it would take approximately 10 workhours per airplane to accomplish the proposed actions, and that the average labor rate is approximately $60 an hour. There is no cost for parts to accomplish the proposed actions.

Based on these figures, we estimate the total cost impact of the proposed AD on U.S. operators to be $181,800, or $600 per airplane.

Regulatory Impact

These proposed regulations would not have a substantial direct effect on the States, on the relationship between the national government and the States, or on the distribution of power and responsibilities among the various levels of government. Therefore, FAA determines that this proposed rule would not have federalism implications under Executive Order 13132.

For the reasons discussed above, I certify that this action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. The FAA has placed a copy of the draft regulatory evaluation prepared for this action in the Rules Docket. You may contact the Rules Docket (at the location provided under the caption ADDRESSES) to get a copy of this evaluation.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends Section 39.13 by adding a new airworthiness directive (AD) to read as follows:

Raytheon Aircraft Company (Type Certificate No. A24CE formerly held by the Beech Aircraft Corporation): Docket No. 2000-CE-02-AD.

(a) What airplanes are affected by this AD? This AD affects the following airplanes, certificated in any category:

(1) Part I of this AD: Wing fuel quantity wiring harness attachment improvement.

5
Model | Serial No.
1900C | UC-1 through UC-174.
1900C (C-12J) | UD-1 through UD-6.
1900D | UE-1 through UE-331.

(2) Part II of this AD: Wiggins coupling adhesive sealing.

Model | Serial No.
1900C | UC-1 through UC-174.
1900C (C-12J) | UD-1 through UD-6.
1900D | UE-1 through UE-354.

(b) Who must comply with this AD? Anyone who wishes to operate any of the above airplanes on the U.S. Register must comply with this AD.

(c) What problem does this AD address? The actions specified by this AD are intended to prevent the following:

(1) Part I of this AD: chafing between the wing fuel quantity wiring harness and the internal wing harness supports at each wing rib location, which could cause the fuel quantity indication to become unreliable. This could leave the flight crew without an indication of the amount of fuel the airplane has during flight; and

(2) Part II of this AD: fuel from leaking through the wiring carry-through conduit and into the wing tip or wheel well area, which could lead to a fire or explosion.

(d) What must I do to address this problem? To address this problem, you must accomplish the following actions:

(1) Part I of this AD: Install a spiral wrap around the wing fuel quantity wiring harness; and

(2) Part II of this AD: Apply an adhesive sealant to the Wiggins couplings on the internal fuel tank wiring carry-through conduit.

(e) What is the compliance time of all actions of this AD? You must accomplish all actions of this AD at whichever of the following times that occurs first:

(1) Within the next 3 calendar months after the effective date of this AD; or

(2) Within the next 600 hours time-in-service (TIS) after the effective date of this AD.

(f) What procedures must I use to accomplish the actions required in this AD? You must use the procedures in Raytheon Mandatory Service Bulletin No. SB 28-3299, Issued: December, 1999, to accomplish the actions of this AD.

(g) Can I comply with this AD in any other way? Yes.

(1) You may use an alternative method of compliance or adjust the compliance time if:

(i) Your alternative method of compliance provides an equivalent level of safety; and

(ii) The Manager, Wichita Aircraft Certification Office (ACO), approves your alternative. Submit your request through an FAA Principal Maintenance Inspector, who may add comments and then send it to the Manager, Wichita ACO.

(2) This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (g)(1) of this AD. The request should include an assessment of the effect of the modification, alteration, or repair on the unsafe condition addressed by this AD; and, if you have not eliminated the unsafe condition, specific actions you propose to address it.

(h) Where can I get information about any already-approved alternative methods of compliance? Contact Jeff Pretz, Aerospace Engineer, Wichita Aircraft Certification Office, FAA, 1801 Airport Road, Mid-Continent Airport, Wichita, Kansas 67209; telephone: (316) 946-4153; facsimile: (316) 946-4407.

(i) What if I need to fly the airplane to another location to comply with this AD? The FAA can issue a special flight permit under sections 21.197 and 21.199 of the Federal Aviation Regulations (14 CFR 21.197 and 21.199) to operate your airplane to a location where you can accomplish the requirements of this AD.

(j) Who should I contact if I have questions regarding the service information? Questions or technical information related to Raytheon Mandatory Service Bulletin No. SB 28-3299, Issued: December, 1999, should be directed to Raytheon Aircraft Corporation, P.O. Box 85, Wichita, Kansas 67201-0085. This service information may be examined at the FAA, Central Region, Office of the Regional Counsel, 901 Locust, Room 506, Kansas City, Missouri 64106.

Issued in Kansas City, Missouri, on March 14, 2000.
Carolanne L. Cabrini,
Acting Manager, Small Airplane Directorate, Aircraft Certification Service.

[FR Doc. 00-7091 Filed 3-21-00; 8:45 am]

BILLING CODE 4910-13-U